DEPARTMENT OF TRANSPORTATION

Federal Motor Carrier Safety Administration

Sunshine Act Meetings; Unified Carrier Registration Plan Board of Directors

AGENCY: Federal Motor Carrier Safety Administration (FMCSA), DOT.

ACTION: Notice of Unified Carrier Registration Plan Board of Directors meeting.

SUMMARY: The Unified Carrier Registration Plan Board of Directors (the Board) will continue its work in developing and implementing the Unified Carrier Registration Plan and Agreement and to that end, may consider matters properly before the Board.

DATES: The meeting will be held on February 7, 2017, from 9:00 a.m. to 12:00 noon Pacific Standard Time.

ADDRESSES: The meetings will be open to the public at the Courtyard by Marriott Downtown, 530 Broadway, San Diego, CA 92101, and via conference call. Those not attending the meetings in person may call 1-877-422-1931, passcode 2855443940, to listen and participate in the meetings.

FOR FURTHER INFORMATION CONTACT: Mr. Avelino Gutierrez, Chair, Unified Carrier Registration Board of Directors at (505) 827-4565.

Issued on: December 19, 2016.
Larry W. Minor,
Associate Administrator, Office of Policy, Federal Motor Carrier Safety Administration.

[FR Doc. 2016-31551 Filed 12-23-16; 4:15 pm]

BILLING CODE P